DEPARTMENT OF HOUSING AND URBAN DEVELOPMENT

[Docket No. FR-5557-D-03]

Delegations of Authority for the Office of Housing—Federal Housing Administration (FHA), Redelegation of Authority to the Deputy Assistant Secretary for Finance and Budget

AGENCY: Office of the Assistant Secretary for Housing—Federal Housing Commissioner, HUD.

ACTION: Notice of revocation and redelegation of authority.

SUMMARY: On September 15, 2006, the Assistant Secretary for Housing—Federal Housing Commissioner and the General Deputy Assistant Secretary for Housing—Deputy Federal Housing Commissioner issued a comprehensive redelegation of authority to the Deputy Assistant Secretary for the Office of Finance and Budget. This redelegation of authority was published on October 12, 2006. Today's notice, with minor edits, updates and republishes in its entirety the redelegation of authority to Office of Finance and Budget.

DATES: Effective Date: June 5, 2012.

FOR FURTHER INFORMATION CONTACT: Office of the Associate General Deputy Assistant Secretary for Housing—Federal Housing Commissioner, Department of Housing and Urban Development, 451 Seventh Street SW., Room 9110, Washington, DC 20410-8000, phone 202-708-2601. (This is not a toll-free number.) Persons with hearing or speech impairments may access this number through TTY by calling the toll-free Federal Relay Service at 800-877-8339.

SUPPLEMENTARY INFORMATION: Section I of this document describes the organization and functions of the Office of Finance and Budget. That organization has not undergone major change since the October 12, 2006 (71 FR 60165), publication of the previous redelegation of authority to Office of Finance and Budget, with the exception that the Office of Evaluation has been moved under the jurisdiction of the Deputy Assistant Secretary for Risk Management and Regulatory Affairs. Therefore this publication does not include the Office of Evaluation within the Finance and Budget Organization.

Section II of this notice describes the authority redelegated to the Deputy Assistant Secretary for Finance and Budget and the Associate Deputy Assistant Secretary for Finance and Budget. With the exception of the addition of the position of Associate Deputy Assistant Secretary for Finance and Budget and certain minor editorial changes, these redelegations remain substantively the same as those published in the October 12, 2006, notice.

Section I. Deputy Assistant Secretary for Finance and Budget: Organization

Three offices report to the Deputy Assistant Secretary for Finance and Budget. These are the (1) Office of Budget and Field Resources; (2) Office of Asset Sales; and (3) Office of the Housing—FHA Comptroller. The following is a brief summary of each of these offices' functions.

A. The Office of Budget and Field Resources

The Office of Budget and Field Resources is responsible for the formulation, presentation, and execution of the Office of Housing's program and administrative budgets. This includes fund assignments and funds control, financial resource management, coordination of financial resources in support of field operations, and budget analysis and reporting. The Office of Budget and Field Resources is responsible for analyzing and evaluating the financial and budgetary impact of new or revised Office of Housing programs and policies, proposed legislation, and new or revised OMB, GAO, or Treasury guidance. Finally, the Director of the Office of Budget and Field Resources is Housing's Funds Control Officer. The responsibilities and duties of personnel within the Office of Budget and Field Resources pertain to internal HUD matters, do not require rendering decisions that bind HUD in relation to external clients and customers and, therefore, do not require delegations of authority.

B. Office of Asset Sales

The Office of Asset Sales oversees the disposition of mortgage notes acquired by Housing upon a default by the mortgagor and assignment of the note to FHA in return for the payment of a claim. The Office of Asset Sales is responsible for the sale of single family, multifamily, nursing home and hospital notes in the manner most advantageous to the federal government and supportive of the mission of the agency. The Office of Asset Sales develops alternative disposition methods that will reduce the acquisition and holding costs of these assets while increasing recovery upon sale.

C. Office of the Housing—FHA Comptroller

The Office of the Housing—FHA Comptroller is a Headquarters operation. The Office of the Housing-FHA Comptroller contains one field component, the Financial Operations Center, located in Albany, New York, and three major offices in Washington, DC

(1) The Office of Financial Service. The Office of Financial Services is comprised of three Headquarters divisions, and one field component, the Financial Operations Center, which is located in Albany, New York. The Office of Financial Services provides the policy direction, review, and coordination required to collect mortgage insurance premiums, to provide the financial services required to support FHA's multibillion dollar Single Family, Multifamily, and Title I insurance portfolios, and to provide the financial support necessary to manage FHA's asset management and disposition programs. The Office of Financial Services collects and maintains financial data necessary to generate accurate accounting entries to the General and Subsidiary ledgers and FHA's financial statements. The Office of Financial Services supports the systems and staff needed to maintain the insurance operations for FHA programs. The Office of Financial Services provides policy guidance and oversight for FHA's debt management and due diligence activities in the Financial Operations Center and supports FHA's asset sales programs. A summary of the functions of each division and of the Financial Operations Center follows:

(a) The Single Family Insurance Operations Division. This Division is responsible for providing financial management services to FHA approved lenders that originate and/or service FHA Single Family insured mortgages. The Single Family Insurance Operations Division maintains insurance records for approximately 32 million active or terminated Single Family FHA-insured loans. The Single Family Insurance Operations Division collects the mortgage insurance premiums and processes refunds of overpayments and unearned mortgage insurance premiums.

(b) The Single Family Post Insurance Division. This Division is responsible for providing processing functions necessary to support the FHA single family asset acquisition, management, and disposition operations. The Single Family Post Insurance Division directs and coordinates all operating requirements, systems development, and reporting functions requirements for its areas of responsibility. The Single Family Post Insurance Division provides servicing support, claims processing, and asset disposition processing. It also provides contractor oversight as appropriate.

(c) The Multifamily Financial Operations Division. This Division is responsible for performing the financial management services necessary for the servicing of all multifamily, insured mortgages in the FHA portfolio and the support of the approved lenders that hold FHA-insured mortgages. The Multifamily Financial Operations Division is also responsible for the servicing of HUD-held Multifamily mortgages and the payment of claims for Multifamily defaulted mortgages. These responsibilities include collection of insurance premiums, management of escrow accounts, payments of preservation and protection expenses, and recording of mortgage satisfactions.

(d) The Financial Operations Center. The Financial Operations Center (Center) is responsible for providing policy guidance, system support, and general oversight of FHA debt management, collection, and due diligence/asset liquidation activities for FHA Assets not elsewhere administered. The Center is responsible for all financial servicing duties in connection with administering the FHA Title I loan program.

(2) The Office of Financial Analysis and Reporting. The Office of Financial Analysis and Reporting is comprised of three Headquarters Divisions. The Office of Financial Analysis and Reporting (OFAR) is responsible for FHA financial management and reporting as well as providing policy direction, review, and coordination of the budgetary and accounting responsibilities for the Office of Housing-FHA Comptroller. OFAR accumulates, summarizes, and reconciles all of the FHA transactions received from more than 15 subsidiary (feeder) systems that capture the Single Family, Multifamily, HECM and Title I insurance activities. OFAR also is responsible for maintaining FHA's internal control framework as well as monitoring budget execution to ensure obligations and expenditures do not exceed authorized levels. OFAR consolidates all of these activities for presentation in FHA's Annual Management Report. In addition, OFAR oversees cash management functions and FHA investments. A description of the three divisions' functions follows.

(a) Financial Analysis and Controls Division. This Division is responsible for developing financial control procedures, performing financial analysis of accounting information, and monitoring and controlling the FHA budget execution process. It also is responsible for managing subsidy flows and borrowings to include borrowing needs, repayments and interest calculations.

(b) General Ledger Division. This Division is responsible for the preparation of all the cash accounting, proprietary accounting, and budgetary accounting entries that update the FHA general ledger. This includes all daily transactions and adjusting entries at the end of each accounting period, including entries required by Credit Reform and budgetary accounting.

(c) The Financial Reporting Division. This Division is responsible for accounting and financial reporting activities for FHA programs. The division classifies, summarizes, analyzes and reports accounting and budgetary transactions for FHA activities. In addition, the division prepares financial reports as required by the Department of Treasury and the Office of Management and Budget and provides guidance and interpretation of guidelines and standards set forth by the Department of Treasury, the Office of Management and Budget and other government agencies. The Division monitors and prepares responses to financial audits and performs certain liaison functions in connection with program audits. (Audits may be performed by both internal and external agencies.)

(3) Office of Systems and Technology. The Office of Systems and Technology coordinates the development and maintenance of integrated financial and management information systems necessary for accounting and management of the Housing and FHA programs.

Section II. Redelegations to the Office of the Deputy Assistant Secretary for Finance and Budget

The Assistant Secretary for Housing, General Deputy Assistant Secretary for Housing, and the Associate General Deputy Assistant Secretary for Housing redelegate program authority in broad terms to the Deputy Assistant Secretary for Finance and Budget and the Associate Deputy Assistant Secretary for Finance and Budget. In addition, the Housing-FHA Comptroller, who reports to the Deputy Assistant Secretary for Finance and Budget, is redelegated concurrent authority, with that of the Deputy Assistant Secretary for Finance and Budget and the Associate Deputy Assistant Secretary for Finance and Budget, to oversee the FHA financial operations and other Office of Housing activities. The general functions and a brief description of the authority redelegated are as follows:

A. General Authority

Authority is redelegated to the Deputy Assistant Secretary for Finance and Budget and to the Associate Deputy Assistant Secretary for Finance and Budget to sign any and all documents necessary to carry out the business of the Office of Finance and Budget, including oversight of FHA financial operations. In addition, authority is redelegated to the Housing-FHA Comptroller to sign any and all documents necessary to carry out the oversight of FHA financial operations. In concert with the specific authorities redelegated to each of them, the Deputy Assistant Secretary for Finance and Budget, the Associate Deputy Assistant Secretary for Finance and Budget and the Housing-FHA Comptroller, in considering a transaction, are also redelegated authority to waive any directives not mandated by statute or regulation, for good cause and with a written justification.

B. Oversight of Financial Operations

The Deputy Assistant Secretary for Finance and Budget and the Associate Deputy Assistant Secretary for Finance and Budget are redelegated such authority as is necessary to oversee the financial management and operations of Office of Housing programs. The FHA Comptroller, who reports to the Deputy Assistant Secretary for Finance and Budget, is responsible for overseeing the financial operations of the FHA.

C. Investment of Surplus Funds

The Deputy Assistant Secretary for Finance and Budget and the Associate Deputy Assistant Secretary for Finance and Budget are redelegated authority to invest FHA funds in certain specified types of accounts, e.g., U.S. Treasury securities.

D. Borrowing from the U.S. Treasury

The Deputy Assistant Secretary for Finance and Budget and the Associate Deputy Assistant Secretary for Finance and Budget are redelegated authority to borrow from the U.S. Treasury such funds as necessary to maintain a positive cash flow in the various FHA insurance funds.

E. Administration of the FHA Title I Loans

The Deputy Assistant Secretary for Finance and Budget and the Associate Deputy Assistant Secretary for Finance and Budget are redelegated the authority to perform such duties as are necessary to carry out the financial functions of the FHA Title I Program.

F. Administration of the FHA Title II Insured Loans

The Deputy Assistant Secretary for Finance and Budget and the Associate Deputy Assistant Secretary for Finance and Budget are redelegated the authority to perform such actions as may be necessary to carry out the financial functions of all FHA Title II insured loans.

G. Payment of FHA Claims

The Deputy Assistant Secretary for Finance and Budget and the Associate Deputy Assistant Secretary for Finance and Budget are redelegated such authority to perform such actions as may be necessary to make FHA claim payments. These duties include but are not limited to determining the appropriate amount of benefits to be paid, making appropriate certifications for payments issued in debentures and/or cash, extending requisite time periods for a lender's submission of financial claim documentation, and collecting, through administrative offset, any indebtedness due HUD.

H. Servicing of HUD-Held Loans

The Deputy Assistant Secretary for Finance and Budget and the Associate Deputy Assistant Secretary for Finance and Budget are redelegated the authority to perform such duties as are necessary to carry out the financial responsibilities for HUD-held notes and properties including but not limited to collecting mortgage payments, ensuring the protection and preservation of collateral, establishing and directing the use of funds in escrow accounts, and executing appropriate legal documents upon payment-in-full of a mortgage.

I. Liaison With the U.S. Treasury Department

The Deputy Assistant Secretary for Finance and Budget and the Associate Deputy Assistant Secretary for Finance and Budget are redelegated such authority as is necessary to process and effect such transactions with the U.S. Treasury as may be required in the normal operation of FHA operations.

J. Sale of Secretary-Held Mortgages

The Deputy Assistant Secretary for Finance and Budget and the Associate Deputy Assistant Secretary for Finance and Budget are redelegated such authority as is necessary to sell Secretary-held mortgages.

K. Management of HUD-Held Mortgages, Notes, and HUD-Owned Properties

The Deputy Assistant Secretary for Finance and Budget and the Associate Deputy Assistant Secretary for Finance and Budget are redelegated such authority as is necessary to make disbursements on HUD-owned or managed properties for the payment of property-related expenses, including property taxes, utility bills, property management fees, etc.

L. Source Selection Official

The Deputy Assistant Secretary for Finance and Budget and the Associate Deputy Assistant Secretary for Finance and Budget are redelegated authority to perform all functions of a source selection official.

Section III. Further Redelegations

The authority redelegated by the Assistant Secretary for Housing-Federal Housing Commissioner, the General Deputy Assistant Secretary-Deputy Federal Housing Commissioner and the Associate General Deputy Assistant Secretary for Housing to the Deputy Assistant Secretary for Finance and Budget and the Associate Deputy Assistant Secretary for Finance and Budget may be redelegated. The Housing-FHA Comptroller may not redelegate the authority redelegated herein.

Section IV. Authority Excepted

The authority redelegated in Section II does not include the authority to issue or waive regulations under the program jurisdiction of the Assistant Secretary for Housing.

Section V. Revocation of Delegations

The Assistant Secretary for Housing-Federal Housing Commissioner or the General Deputy Assistant Secretary for Housing-Deputy Federal Housing Commissioner or the Associate General Deputy Assistant Secretary for Housing may, at any time, revoke any of the authority redelegated herein. Notice of any revocation will be published in the Federal Register. This redelegation of authority supersedes all prior redelegations of authority to staff in the Office of Finance and Budget.

Authority: Section 7(d), Department of Housing and Urban Development Act, 42 U.S.C. 3535(d).

Dated: June 5, 2012.
Carol J. Galante,
Acting Assistant Secretary for Housing—Federal Housing Commissioner.

[FR Doc. 2012-15067 Filed 6-19-12; 8:45 am]

BILLING CODE 4210-67-P